DEPARTMENT OF TRANSPORTATION

Federal Highway Administration

Environmental Impact Statement; Pulaski and Laurel Counties, KY

AGENCY: Federal Highway Administration (FHWA), DOT.

ACTION: Notice of intent.

SUMMARY: The FHWA is issuing this notice to advise the public of its intent to prepare an Environmental Impact Statement (EIS) for a proposed highway project in the south-central portion of Kentucky, between the proposed Somerset Northern Bypass and London.

FOR FURTHER INFORMATION CONTACT: Evan Wisniewski, Project Development Team Leader, Federal Highway Administration, 300 West Broadway, Frankfort, Kentucky, 40601, (502) 223-6740, e-mail: evan.wisniewski@fhwa.dot.gov; or David Beattie, Project Manager, Kentucky Transportation Cabinet, District 8, P.O. Box 780, Somerset, Kentucky, 42501, (606) 677-4017, e-mail: David.Beattie@mail.state.ky.us.

SUPPLEMENTARY INFORMATION:

Electronic Access

An electronic copy of this document may be downloaded by using a computer, modem and suitable communications software from the Government Printing Office's Electronic Bulletin Board Service at (202) 512-1661. Internet users may reach the Office of the Federal Register's home page at http://www.nara.gov/fedreg and the Government Printing Office's Web page at http://www.access.gpo.gov.nara.

Background

The FHWA, in cooperation with the Kentucky Transportation Cabinet (KYTC), will prepare an Environmental Impact Statement (EIS) for the proposed project to study potential transportation improvements in the northern corridor identified in the I-66 Southern Kentucky Corridor Scoping Study, completed in June 2000. This corridor is located in the south-central portion of Kentucky, between Somerset in Pulaski County and London in Laurel County.

As part of the National Environmental Policy Act (NEPA) process, FHWA will be preparing an EIS to assess the social, economic, and environmental impacts of the proposed project. The EIS will include a reasonable range of alternatives that will address the purpose and need of the project as well as a no-build alternative.

A Public Involvement Plan, including the development of a Citizens Committee, will be established and will facilitate public involvement throughout the project development process. The resource agencies will be solicited for their input throughout the life of this project. Throughout the development process, advance notice of the time and place of public meetings and/or hearings will be given in order to provide an opportunity for citizen attendance and comments.

The Transamerica Transportation Corridor (I-66) was defined in an Interstate 66 Feasibility Study. This study focused on the feasibility of various alternative transportation concepts. The report recognized that further analyses could find that some individual segments of the Transamerica Transportation Corridor would be more feasible than others and would be more desirable from a state or regional perspective. The Interstate 66 Feasibility Study was funded through the 1991 U.S. Department of Transportation Appropriation Act.

The Transamerica Transportation Corridor extended from the East Coast to the West Coast, and was generally located between I-70 and I-40. It included a “Southern Kentucky Corridor” centered on the cities of Pikeville, Jenkins, Hazard, London, Somerset, Columbia, Bowling Green, Hopkinsville, Benton and Paducah.

The Southern Kentucky Corridor, Economic Justification & Financial Feasibility Study, May 1997, followed the Interstate 66 Feasibility Study. This study included public participation through an advisory committee, public meetings, press releases, and newsletters sent to all parties who expressed an interest in the Southern Kentucky Corridor. The study identified the Somerset to London segment (connecting the Louie B. Nunn Parkway with the Daniel Boone Parkway) of the proposed I-66 Southern Kentucky Corridor as a priority segment.

In June 2000, the I-66 Southern Kentucky Corridor Scoping Study (Pulaski-Laurel Counties) was completed. It developed an environmental footprint, gathered resource agency and public input, and identified areas of concern, as well as the potential benefits of such an undertaking within the Southern Kentucky Corridor.

Letters describing the proposed action and soliciting comments will be sent to appropriate Federal, State, and local agencies, and to private organizations and citizens who have previously expressed or are known to have interest in this proposal. A series of public meetings will be held throughout the design process. In addition a public hearing will be held. Public notice will be given of the time and place of the meetings and hearing. The draft EIS will be available for public and agency review and comment prior to the public hearing. A formal scoping meeting with resource agencies will be planned for late spring 2002. Resource agencies will be notified 30 days prior to the meeting date.

To ensure that the full range of issues related to this proposed project are addressed and all significant issues identified, comments and suggestions are invited from all interested parties. Comments or questions concerning this proposed project and EIS should be directed to the FHWA at the address provided above.

(Catalog of Federal Domestic Assistance Program Number 20.205, Highway Planning and Construction. The regulations implementing Executive Order 12372 regarding intergovernmental consultation on Federal programs and activities apply to this program)

(23 U.S.C. 315; 49 CFR 1.48)

Issued on: April 22, 2002.
Evan J. Wisniewski,
Acting Kentucky Division Administrator.

[FR Doc. 02-10410 Filed 4-26-02; 8:45 am]

BILLING CODE 4910-22-M